DEPARTMENT OF ENERGY

Agency Information Collection Extension; Correction

AGENCY: U.S. Department of Energy.

ACTION: Notice and Request for Comments; Correction.

SUMMARY: The Department of Energy (DOE) published a document in the Federal Register of June 11, 2012, announcing the submission of an information request to the OMB for the Foreign Travel Management System (FTMS). This document corrects an error in that notice.

FOR FURTHER INFORMATION CONTACT: Requests for additional information or copies of the information collection instrument and instructions should be directed to Julie Squires at julie.squires@hq.doe.gov.

Correction

In the Federal Register of June 11, 2012, in FR Doc. 2012-14119, 77 FR 34367, please make the following correction:

On page 34367, second column, under the heading SUPPLEMENTARY INFORMATION, (1) should read OMB No. 1910-5144;

Issued in Washington, DC, on August 7, 2012.
Julie Squires,
Director, Office of International Travel and Exchange Visitor Programs.

[FR Doc. 2012-19938 Filed 8-13-12; 8:45 am]

BILLING CODE 6450-01-P